DEPARTMENT OF THE INTERIOR

National Park Service

[NPS-WASO-OIA-17652; PIN00IO14.XI0000]

Submission of U.S. Nomination to the World Heritage List

AGENCY: National Park Service, Interior.

ACTION: Notice.

SUMMARY: The Department of the Interior is submitting a nomination to the World Heritage List for the “Key Works of Modern Architecture by Frank Lloyd Wright,” consisting of 10 separate properties, located in seven states: Unity Temple, Oak Park, Illinois; Frederick C. Robie House, Chicago, Illinois; Taliesin, Spring Green, Wisconsin; Hollyhock House, Los Angeles, California; Fallingwater, Mill Run, Pennsylvania; Herbert and Katherine Jacobs House, Madison, Wisconsin; Taliesin West, Scottsdale, Arizona; Solomon R. Guggenheim Museum, New York, New York; Price Tower, Bartlesville, Oklahoma; and the Marin County Civic Center, San Rafael, California. This is the third notice required by the Department of the Interior's World Heritage Program regulations.

DATES: The World Heritage Committee will likely consider the nomination at its 40th annual session in mid-2016.

FOR FURTHER INFORMATION CONTACT: Stephen Morris, Chief, Office of International Affairs at 202-354-1803 or Jonathan Putnam, International Cooperation Specialist at 202-354-1809. Complete information about U.S. participation in the World Heritage Program and the process used to develop the U.S. World Heritage Tentative List is posted on the National Park Service, Office of International Affairs Web site at: http://www.nps.gov/oia/topics/worldheritage/worldheritage.htm.

To request paper copies of documents discussed in this notice, please contact April Brooks, Office of International Affairs, National Park Service, 1201 Eye Street NW., (0050) Washington, DC 20005; Email: april_brooks@nps.gov.

SUPPLEMENTARY INFORMATION: This constitutes the official notice of the decision by the United States Department of the Interior to submit on behalf of the United States, a nomination to the World Heritage List for the “Key Works of Modern Architecture by Frank Lloyd Wright,” as enumerated in the Summary above, and it is a component of the Third Notice referred to in 36 CFR 73.7(j) of the World Heritage Program regulations (36 CFR part 73).

The nomination is being submitted through the U.S. Department of State to the World Heritage Centre of the United Nations Educational, Scientific and Cultural Organization (UNESCO) for consideration by the World Heritage Committee, which will likely occur at the Committee's 40th annual session in mid-2016.

This serial nomination has been selected from the U.S. World Heritage Tentative List, where it was listed as “Frank Lloyd Wright Buildings.” The Tentative List consists of properties that appear to qualify for World Heritage status and which may be considered for nomination by the United States to the World Heritage List. The Frank Lloyd Wright Buildings nomination on the Tentative List was subsequently amended in July 2011 to add the Herbert and Katherine Jacobs House to the group. Although the S.C. Johnson & Son, Inc., Administration Building and Research Tower in Racine, Wisconsin, are also included on the Tentative List under “Frank Lloyd Wright Buildings,” they are not being nominated at this time, but may be in the future.

The U.S. World Heritage Tentative List appeared in a Federal Register notice on December 14, 2010 (73 FR 77901-77903, December 14, 2010), with a request for public comment on possible nominations from the then-13 properties on the Tentative List. A summary of the comments received, the Department of the Interior's responses to them and the Department's decision to request preparation of this nomination appeared in a subsequent Federal Register Notice published on July 14, 2011 (76 FR 41517-41521). These are the First and Second Notices required by 36 CFR 73.7(c) and (f).

In making the decision to submit this U.S. World Heritage nomination, pursuant to 36 CFR 73.7(h) and (i), the Department's Principal Deputy Assistant Secretary for Fish and Wildlife and Parks evaluated the draft nomination and the recommendations of the Federal Interagency Panel for World Heritage. He determined that the property meets the prerequisites for nomination by the United States to the World Heritage List that are detailed in 36 CFR part 73. Each property is nationally significant, having been designated by the Department of the Interior as an individual National Historic Landmark. The owners of the properties have concurred in writing with the nomination, and the legal and other protections for each property are documented in the nomination. This nomination appears to meet two of the World Heritage criteria for cultural properties.

The “Key Works of Modern Architecture by Frank Lloyd Wright” is nominated under World Heritage cultural criteria (i) and (ii), as provided in 36 CFR 73.9(b)(1), as containing many of the most iconic, fully realized, and innovative of the buildings designed by Wright (1867-1959). Located in seven states across the continental United States of America, they respond to more than fifty years of dramatic cultural and technological change with distinctive and highly original modern forms. Designed for a range of urban, suburban, and rural environments and for clients from all backgrounds and walks of life, these works, which include a variety of building types, embody a single-minded vision of architecture as space created for human use, rich in emotion and sensitive to their surroundings. These masterworks, particular to Wright's vision, fused a variety of influences in a way that made a powerful impact on global architecture in the 20th century.

The properties, both individually and as a group, also meet the World Heritage requirements for integrity and authenticity and have been determined to possess adequate legal and management mechanisms to ensure their conservation pursuant to 36 CFR 73.9(b)(2).

The World Heritage List is an international list of cultural and natural properties nominated by the signatories to the World Heritage Convention (1972). The United States was the prime architect of the Convention, an international treaty for the preservation of natural and cultural heritage sites of global significance proposed by President Richard M. Nixon in 1972, and the U.S. was the first nation to ratify it. The World Heritage Committee, composed of representatives of 21 nations elected as the governing body of the World Heritage Convention, makes the final decisions on which nominations to accept for inclusion on the World Heritage List at its annual meeting each summer. The United States has served four terms on the World Heritage Committee, but is not currently a member.

There are 1,007 World Heritage sites in 161 of the 191 signatory countries. The United States has 22 sites inscribed on the World Heritage List.

U.S. participation and the role of the Department of the Interior are authorized by Section 401 of Title IV of the Historic Preservation Act Amendments of 1980, (now codified at 54 U.S.C. 307101), and conducted by the Department through the National Park Service in accordance with the regulations at 36 CFR part 73 which implement the Convention pursuant to this law. The Department of the Interior has the lead role for the U.S. Government in the implementation of the Convention; the National Park Service serves as the principal technical agency within the Department for World Heritage matters and manages all or parts of 19 of the 22 U.S. World Heritage Sites.

The World Heritage Committee's Operational Guidelines require participating nations to provide tentative lists, which aid in evaluating properties for the World Heritage List on a comparative international basis and help the Committee to schedule its work. The current U.S. Tentative List was transmitted to the UNESCO World Heritage Centre on January 24, 2008.

Neither inclusion in the Tentative List nor inscription as a World Heritage Site imposes legal restrictions on owners or neighbors of sites, nor does it give the United Nations any management authority or ownership rights in U.S. World Heritage Sites, which continue to be subject only to U.S. federal and local laws, as applicable.

Dated: March 3, 2015.
Michael J. Bean,
Principal Deputy Assistant Secretary for Fish and Wildlife and Parks.

[FR Doc. 2015-06663 Filed 3-23-15; 8:45 am]

BILLING CODE 4312-52-P